NATIONAL AERONAUTICS AND SPACE ADMINISTRATION

[Notice: 23-120]

Privacy Act of 1974; System of Records

AGENCY: National Aeronautics and Space Administration (NASA).

ACTION: Notice of a modified system of records.

SUMMARY: In accordance with the requirements of the Privacy Act of 1974, the National Aeronautics and Space Administration is providing public notice of a modification to a previously announced system of records, Astronaut Candidate Selection Records, NASA 10ACSR. This notice incorporates locations and NASA standard routine uses previously published separately from, and cited by reference in, this and other NASA systems of records notices. Other modifications are described in the Supplementary Information section below.

DATES: Submit comments within 30 calendar days from the date of this publication. The changes will take effect at the end of that period, if no adverse comments are received.

ADDRESSES: Bill Edwards-Bodmer, Privacy Act Officer, Office of the Chief Information Officer, National Aeronautics and Space Administration Headquarters, Washington, DC 20546-0001, (757) 864-7998, NASA-PAOfficer@nasa.gov.

FOR FURTHER INFORMATION CONTACT: NASA Privacy Act Officer, Bill Edwards-Bodmer, (757) 864-7998, NASA-PAOfficer@nasa.gov.

SUPPLEMENTARY INFORMATION: This system notice includes minor revisions to NASA's existing system of records notice to bring its format into compliance with OMB guidance and to update records access, notification, and contesting procedures consistent with NASA Privacy Act regulations. It incorporates in whole, as appropriate, information formerly published separately in the Federal Register as Appendix A, Location Numbers and Mailing Addresses of NASA Installations at which Records are Located, and Appendix B, Standard Routine Uses—NASA, and removes references to “Appendix A” and “Appendix B.” This notice also updates Administrative, Technical, and Physical Safeguards to reflect current information technology security protocols. Finally, this notice is also modified to make minor editorial changes.

William Edwards-Bodmer,
NASA Privacy Act Officer.

SYSTEM NAME:

Astronaut Candidate Selection Records, NASA 10ACSR.

SECURITY CLASSIFICATION:

Unclassified.

SYSTEM LOCATION:

Lyndon B. Johnson Space Center, National Aeronautics and Space Administration (NASA), Houston, TX 77058-3696.

SYSTEM MANAGER(S):

Astronaut Candidate Program Manager, Lyndon B. Johnson Space Center, National Aeronautics and Space Administration (NASA), Houston, TX 77058-3696.

AUTHORITY FOR MAINTENANCE OF THE SYSTEM:

51 U.S.C. 20113(a); 44 U.S.C. 3101; 5 U.S.C. 3301 et seq.

PURPOSE(S) OF THE SYSTEM:

Records in this system are used by NASA to facilitate processes and procedures associated with the recruitment, evaluation, and selection of United States astronaut candidates, as defined in 14 CFR part 1214, subpart 1214.11 (NASA Astronaut Candidate Recruitment and Selection Program).

CATEGORIES OF INDIVIDUALS COVERED BY THE SYSTEM:

This system maintains information on persons who have applied to the agency for consideration as candidates for and recipients of training associated with NASA Astronaut and Human Space Flight Programs.

CATEGORIES OF RECORDS IN THE SYSTEM:

Records in this system include identifying information for the individuals in employment applications and resumes and records of specialized training, honors and awards. The system also contains relevant human resource correspondence, records an individual's qualifications for participation in a specialized program, evaluations of candidates, and final NASA determinations of candidates' qualification for the program.

RECORD SOURCE CATEGORIES:

Civil servant application information is received by the NASA Astronaut Candidate Selection System from applicants themselves via an electronic interface with OPM USA Staffing that receives all applicant records from the USAJobs.gov website, operated by the United States Office of Personnel Management (OPM), and into which applicants enter their own application data. Candidate Qualification input is received directly from individuals used as references who have direct knowledge of applicant capabilities. In certain circumstances, updates to this information may be submitted by the individual on whom the record is maintained and/or the NASA Personnel Office(s).

ROUTINE USES OF RECORDS MAINTAINED IN THE SYSTEM, INCLUDING CATEGORIES OF USERS AND PURPOSES OF SUCH USES:

Any disclosures of information will be compatible with the purpose for which the Agency collected the information. Under the following routine use that is unique to this system of records, information in this system may be disclosed to the news media and the public, with the approval of the Senior Agency Official for Privacy in consultation with counsel, when there exists a legitimate public interest in the disclosure of the information or when disclosure is necessary to preserve confidence in the integrity of NASA or is necessary to demonstrate the accountability of NASA's officers, employees, or individuals covered by the system, except to the extent it is determined that release of the specific information in the context of a particular case would constitute an unwarranted invasion of personal privacy, or that disclosure would violate any federal statute or regulation.

In addition, information may be disclosed under the following NASA Standard Routine Uses:

1. Law Enforcement—When a record on its face, or in conjunction with other information, indicates a violation or potential violation of law, whether civil, criminal or regulatory in nature, and whether arising by general statute or particular program statute, or by regulation, rule, or order, disclosure may be made to the appropriate agency, whether Federal, foreign, State, local, or tribal, or other public authority responsible for enforcing, investigating or prosecuting such violation or charged with enforcing or implementing the statute, or rule, regulation, or order, if NASA determines by careful review that the records or information are both relevant and necessary to any enforcement, regulatory, investigative or prosecutive responsibility of the receiving entity.

2. Certain Disclosures to Other Agencies—A record from this SOR may be disclosed to a Federal, State, or local agency maintaining civil, criminal, or other relevant enforcement information or other pertinent information, such as current licenses, if necessary, to obtain information relevant to an NASA decision concerning the hiring or retention of an employee, the issuance of a security clearance, the letting of a contract, or the issuance of a license, grant, or other benefit.

3. Certain Disclosures to Other Federal Agencies—A record from this SOR may be disclosed to a Federal agency, in response to its request, for a matter concerning the hiring or retention of an employee, the issuance of a security clearance, the reporting of an investigation of an employee, the letting of a contract, or the issuance of a license, grant, or other benefit by the requesting agency, to the extent that the information is relevant and necessary to the requesting agency's decision on the matter.

4. Department of Justice—A record from this SOR may be disclosed to the Department of Justice when (a) NASA, or any component thereof; or (b) any employee of NASA in his or her official capacity; or (c) any employee of NASA in his or her individual capacity where the Department of Justice has agreed to represent the employee; or (d) the United States, where NASA determines that litigation is likely to affect NASA or any of its components, is a party to litigation or has an interest in such litigation, and by careful review, the use of such records by the Department of Justice is deemed by NASA to be relevant and necessary to the litigation.

5. Courts—A record from this SOR may be disclosed in an appropriate proceeding before a court, grand jury, or administrative or adjudicative body, when NASA determines that the records are relevant and necessary to the proceeding; or in an appropriate proceeding before an administrative or adjudicative body when the adjudicator determines the records to be relevant and necessary to the proceeding.

6. Response to an Actual or Suspected Compromise or Breach of Personally Identifiable Information—A record from this SOR may be disclosed to appropriate agencies, entities, and persons when (1) NASA suspects or has confirmed that there has been a breach of the system of records; (2) NASA has determined that as a result of the suspected or confirmed breach there is a risk of harm to individuals, NASA (including its information systems, programs, and operations), the Federal Government, or national security; and (3) the disclosure made to such agencies, entities, and persons is reasonably necessary to assist in connection with NASA's efforts to respond to the suspected or confirmed breach or to prevent, minimize, or remedy such harm.

7. Contractors—A record from this SOR may be disclosed to contractors, grantees, experts, consultants, students, volunteers, and others performing or working on a contract, service, grant, cooperative agreement, or other assignment for the Federal Government, when necessary to accomplish a NASA function related to this SOR. Individuals provided information under this routine use are subject to the same Privacy Act requirements and limitations on disclosure as are applicable to NASA employees.

8. Members of Congress—A record from this SOR may be disclosed to a Member of Congress or to a Congressional staff member in response to an inquiry of the Congressional office made at the written request of the constituent about whom the record is maintained.

9. Disclosures to Other Federal Agencies in Response to an Actual or Suspected Compromise or Breach of Personally Identifiable Information—A record from this SOR may be disclosed to another Federal agency or Federal entity, when NASA determines that information from this system of records is reasonably necessary to assist the recipient agency or entity in (1) responding to a suspected or confirmed breach or (2) preventing, minimizing, or remedying the risk of harm to individuals, the recipient agency or entity (including its information systems, programs, and operations), the Federal Government, or national security, resulting from a suspected or confirmed breach.

10. National Archives and Records Administration—A record from this SOR may be disclosed as a routine use to the officers and employees of the National Archives and Records Administration (NARA) pursuant to records management inspections being conducted under the authority of 44 U.S.C. 2904 and 2906.

11. Audit—A record from this SOR may be disclosed to another agency, or organization for purpose of performing audit or oversight operations as authorized by law, but only such information as is necessary and relevant to such audit or oversight function.

POLICIES AND PRACTICES FOR STORAGE OF RECORDS:

Records in this system are maintained on electronic media.

POLICIES AND PRACTICES FOR RETRIEVAL OF RECORDS:

Records are retrieved from the system by any one or a combination of name, Discipline Area, or unique identification number.

POLICIES AND PROCEDURES FOR RETENTION AND DISPOSAL OF RECORDS:

Records are maintained and transferred to the National Archives in accordance with NASA Records Retention Schedules, Schedule 8, Item 35.

ADMINISTRATIVE, TECHNICAL, AND PHYSICAL SAFEGUARDS:

Records are maintained within a secure, electronic database and protected in accordance with the requirements and procedures of FISMA, the NASA regulations at 14 CFR 1212.605, NASA Procedural Requirements (NPR) 2810.1A, ITS-HBK-AASTEP1.v1.0.0, and, utilizing database servers with self-encrypting “data-at-rest” technologies, located in secured, monitored, restricted access rooms. Electronic messages sent within and outside of the Agency that convey sensitive data are encrypted and transmitted by staff via pre-approved electronic encryption systems as required by NASA policy. An approved security plan for this system has been established in accordance with OMB Circular A-130, Management of Federal Information Resources. Only key authorized employees with appropriately configured system roles can access the system through approved authentication methods, and only from workstations within the NASA Intranet or via a secure VPN connection that requires two-factor authentication.

RECORD ACCESS PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

CONTESTING RECORD PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

NOTIFICATION PROCEDURES:

In accordance with 14 CFR part 1212, Privacy Act—NASA Regulations, information may be obtained by contacting in person or in writing the system or subsystem manager listed above at the location where the records are created and/or maintained. Requests must contain the identifying data concerning the requester, e.g., first, middle and last name; date of birth; description and time periods of the records desired. NASA Regulations also address contesting contents and appealing initial determinations regarding records access.

EXEMPTIONS PROMULGATED FOR THE SYSTEM:

None.

HISTORY:

80 FR 79937

78 FR 40515

[FR Doc. 2023-26354 Filed 11-29-23; 8:45 am]

BILLING CODE 7510-13-P